DEPARTMENT OF TRANSPORTATION

Federal Aviation Administration

14 CFR Part 39

[Docket No. 2002-NM-146-AD; Amendment 39-13626; AD 2004-09-35]

RIN 2120-AA64

Airworthiness Directives; Saab Model SAAB SF340A and SAAB 340B Series Airplanes

AGENCY: Federal Aviation Administration, DOT.

ACTION: Final rule.

SUMMARY: This amendment adopts a new airworthiness directive (AD), applicable to certain Saab Model SAAB SF340A and SAAB 340B series airplanes, that requires removing the two direct current (DC) over-voltage/feeder-fault test switches from the Test 2 Panel of the generator control unit, and follow-on actions. This action is necessary to prevent loss of the DC generators, which could result in the loss of normal electrical power to the airplane and increased pilot workload. This action is intended to address the identified unsafe condition.

DATES: Effective June 15, 2004.

The incorporation by reference of certain publications listed in the regulations is approved by the Director of the Federal Register as of June 15, 2004.

ADDRESSES: The service information referenced in this AD may be obtained from Saab Aircraft AB, SAAB Aircraft Product Support, S-581.88, Linköping, Sweden. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Rosanne Ryburn, Aerospace Engineer, International Branch, ANM-116, FAA, Transport Airplane Directorate, 1601 Lind Avenue, SW., Renton, Washington 98055-4056; telephone (425) 227-2139; fax (425) 227-1149.

SUPPLEMENTARY INFORMATION: A proposal to amend part 39 of the Federal Aviation Regulations (14 CFR part 39) to include an airworthiness directive (AD) that is applicable to certain Saab Model SAAB SF340A and SAAB 340B series airplanes was published in the Federal Register on October 30, 2003 (68 FR 61774). That action proposed to require removing the two direct current (DC) over-voltage/feeder-fault test switches from the Test 2 Panel of the generator control unit, and follow-on actions.

Comments

Interested persons have been afforded an opportunity to participate in the making of this amendment. Due consideration has been given to the comment received.

The commenter requests that a credit paragraph be added to the proposed AD for accomplishment of the specified actions per Saab Service Bulletin 340-24-023, Revision 01, dated August 24, 1995. (Revision 02 of the service bulletin was referenced in the proposed AD for accomplishment of the actions.) The FAA agrees with the commenter, as the procedures specified in Revision 01 are essentially the same as those in Revision 02. We have added a new paragraph (b) to this final rule to provide credit for actions accomplished previously per Revision 01 of the referenced service bulletin.

Conclusion

After careful review of the available data, including the comment noted above, we have determined that air safety and the public interest require the adoption of the rule with the change described previously. We have determined that this change will neither increase the economic burden on any operator nor increase the scope of the AD.

Cost Impact

The FAA estimates that 251 airplanes of U.S. registry will be affected by this AD, that it will take about 4 work hours per airplane to accomplish the required actions, and that the average labor rate is $65 per work hour. Required parts will cost about $107 per airplane. Based on these figures, the cost impact of the AD on U.S. operators is estimated to be $92,117, or $367 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-09-35 Saab Aircraft AB: Amendment 39-13626. Docket 2002-NM-146-AD.

Applicability: Model SAAB SF340A series airplanes having serial numbers 004 through 159 inclusive; and SAAB 340B series airplanes having serial numbers 160 through 379 inclusive; certificated in any category.

Compliance: Required as indicated, unless accomplished previously.

To prevent the loss of the direct current (DC) generators, which could result in the loss of normal electrical power to the airplane and increased pilot workload, accomplish the following:

Removal of DC Generator Test Switches

(a) Within 5,000 flight hours or two years after the effective date of this AD, whichever occurs later: Remove the two DC over-voltage/feeder-fault test switches from the Test 2 Panel of the generator control unit and do all the follow-on actions specified in the Accomplishment Instructions of Saab Service Bulletin 340-24-023, Revision 02, dated November 15, 2001. Do the actions per the service bulletin.

Credit for Previous Issue of Service Bulletin

(b) Accomplishment of the specified actions before the effective date of this AD per Saab Service Bulletin 340-24-023, Revision 01, dated August 24, 1995; is acceptable for compliance with the corresponding actions required by paragraph (a) of this AD.

Alternative Methods of Compliance

(c) In accordance with 14 CFR 39.19, the Manager, International Branch, ANM-116, FAA, Transport Airplane Directorate, is authorized to approve alternative methods of compliance for this AD.

Incorporation by Reference

(d) Unless otherwise provided in this AD, the actions shall be done in accordance with Saab Service Bulletin 340-24-023, Revision 02, dated November 15, 2001. This incorporation by reference was approved by the Director of the Federal Register in accordance with 5 U.S.C. 552(a) and 1 CFR part 51. Copies may be obtained from Saab Aircraft AB, SAAB Aircraft Product Support, S-581.88, Linköping, Sweden. Copies may be inspected at the FAA, Transport Airplane Directorate, 1601 Lind Avenue, SW., Renton, Washington; or at the National Archives and Records Administration (NARA). For information on the availability of this material at NARA, call (202) 741-6030, or go to: http://www.archives. gov/federal_ register/code_ of_federal_ regulations/ibr_ locations.html.

Note 1: The subject of this AD is addressed in Swedish airworthiness directive 1-169, dated November 20, 2001.

Effective Date

(e) This amendment becomes effective on June 15, 2004.

Issued in Renton, Washington, on April 27, 2004.
Kevin M. Mullin,
Acting Manager, Transport Airplane Directorate, Aircraft Certification Service.

[FR Doc. 04-10373 Filed 5-10-04; 8:45 am]

BILLING CODE 4910-13-P